DEPARTMENT OF HEALTH AND HUMAN SERVICES

National Institutes of Health

National Cancer Institute; Amended Notice of Meeting

Notice is hereby given of a change in the meeting of the National Cancer Institute Special Emphasis Panel, May 22, 2006, 6 p.m. to May 24, 2006, 5 p.m., Hilton Silver Spring, 8727 Colesville Road, Silver Spring, MD, 20910 which was published in the Federal Register on April 28, 2006, 71 FR 25180.

The meeting name is being changed from “Cellular Biology” to “Cellular & Tissue Bilogy”. The meeting is closed to the public.

Dated: May 5, 2006.
Anna Snouffer,
Acting Director, Office of Federal Advisory Committee Policy.

[FR Doc. 06-4462 Filed 5-11-06; 8:45 am]

BILLING CODE 4140-01-M